COMMISSION ON CIVIL RIGHTS

Agenda and Notice of Public Meeting of the Virginia Advisory Committee

Notice is hereby given, pursuant to the provisions of the rules and regulations of the U.S. Commission on Civil Rights, that a meeting of the Virginia Advisory Committee to the Commission will convene at 11 a.m. and adjourn at 3:15 p.m. on Monday, May 7, 2001, at the Conference Room, National Spa and Pool Institute, 2111 Eisenhower Avenue, Alexandria, Virginia 22314. The purpose of the meeting is to: (1) Plan new projects, (2) obtain information from speakers representing the Census Bureau on recently released population and demographic statistics for Virginia, and (3) be briefed by local minority community members on their views on civil rights developments.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, April 10, 2001.
Edward A. Hailes, Jr.,
General Counsel.

[FR Doc. 01-9494 Filed 4-16-01; 8:45 am]

BILLING CODE 6335-01-P